FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012041.

Title: “K” Line/YML/HJS ECSA Space Charter Agreement.

Parties: Hanjin Shipping Co., Ltd.; Kawasaki Kisen Kaisha, Ltd. (K-Line); and Yang Ming Marine Transport Corp.

Filing Party: John P. Meade, Esq.; “K” Line America, Inc.; PO Box 9; Preston, MD 21655.

Synopsis: The agreement authorizes the parties to exchange space on their respective vessels in the trade between U.S. East Coast ports and ports in Argentina, Brazil, Paraguay, Uruguay and Venezuela.

Agreement No.: 012042.

Title: MOL/ELJSA Vessel Sharing Agreement.

Parties: Evergreen Lines Joint Service Agreement and Mitsui O.S.K. Lines, Ltd.

Filing Party: Robert B. Yoshitomi, Esq.; Nixon Peabody, LLP; Gas Company Tower; 555 West Fifth St, 46th Floor; Los Angeles, CA 90013.

Synopsis: The agreement authorizes the parties to share vessel space between United States and Japan.

Agreement No.: 201103-007.

Title: Memorandum Agreement of the Pacific Maritime Association of December 14, 1983 Concerning Assessments to Pay ILWU-PMA Employee Benefit Costs, As Amended, Through April 16, 2008.

Parties: Pacific Maritime Association and International Longshore and Warehouse Union.

Filing Party: Harold E. Mesirow, Esq.; Troutman Sanders LLP; 401 9th Street, NW; Suite 1000; Washington, D.C. 20004-2134.

Synopsis: The amendment adjusts the man-hour assessment rate formula under the agreement.

Dated: April 25, 2008.
By order of the Federal Maritime Commission.
Karen V. Gregory,
Assistant Secretary.

[FR Doc. E8-9510 Filed 4-29-08; 8:45 am]

BILLING CODE 6730-01-P